DEPARTMENT OF TRANSPORTATION

Federal Aviation Administration

[Summary Notice No. PE-2005-55]

Petitions for Exemption; Dispositions of Petitions Issued

AGENCY: Federal Aviation Administration (FAA), DOT.

ACTION: Notice of disposition of prior petition.

SUMMARY: Pursuant to FAA's rulemaking provisions governing the application, processing, and disposition of petitions for exemption, part 11 of Title 14, Code of Federal Regulations (14 CFR), this notice contains the disposition of certain petitions previously received. The purpose of this notice is to improve the public's awareness of, and participation in, this aspect of FAA's regulatory activities. Neither publication of this notice nor the inclusion or omission of information in the summary is intended to affect the legal status of any petition or its final disposition.

FOR FURTHER INFORMATION CONTACT: Susan Lender (202) 267-8029 or John Linsenmeyer (202) 267-5174, Office of Rulemaking (ARM-1), Federal Aviation Administration, 800 Independence Avenue, SW., Washington, DC 20591.

This notice is published pursuant to 14 CFR 11.85 and 11.91.

Issued in Washington, DC, on September 2, 2005.
Anthony F. Fazio,
Director, Office of Rulemaking.

Disposition of Petitions

Docket No.: FAA-2004-18676.

Petitioner: Quest Diagnostics, Inc.

Sections of 14 CFR Affected: 14 CFR 91.207(d)(4).

Description of Disposition: Quest Diagnostics, Inc. petitioned to operate certain aircraft without testing the emergency locator transmitter (ELT) for the presence of a sufficient signal radiated from its antenna. The FAA determined that testing the ELT for the presence of a sufficient signal radiated from its antenna is necessary to ensure the ELT functions properly in case of an emergency. The FAA is aware of the potential conflict between 14 CFR 91.207(d)(4) and 47 CFR 87.197. We are researching avenues to enable operators to comply with both rules. We recommended shielding the ELT antenna during testing or suppressing the antenna from emitting a signal. The FAA denied the exemption petition.

Denial of Exemption, 08/29/2005, Exemption No. 8615.

[FR Doc. 05-17909 Filed 9-8-05; 8:45 am]

BILLING CODE 4910-13-P